NATIONAL CREDIT UNION ADMINISTRATION

Sunshine Act; Notice of Matters To Be Deleted From the Agenda of a Previously Announced Agency Meeting

FEDERAL REGISTER CITATION OF PREVIOUS ANNOUNCEMENT: October 15, 2018 (83 FR 51986).

TIME AND DATE: 9:00 a.m., Thursday, October 18, 2018.

PLACE: Board Room, 7th Floor, Room 7047, 1775 Duke Street, Alexandria, VA 22314-3428.

STATUS: Closed.

Pursuant to the provisions of the “Government in Sunshine Act” notice is hereby given that the NCUA Board gave notice on October 11, 2018 of the regular meeting of the NCUA Board scheduled for October 18, 2018. Prior to the meeting, on October 16, 2018, the NCUA Board unanimously determined that agency business required the deletion of the first and second items on the closed agenda with less than seven days' notice to the public, and that no earlier notice of the deletion was possible.

MATTERS TO BE DELETED: 1. Supervisory Enforcement Matter. Closed pursuant to Exemptions (6), (8), (9)(ii), and (10).

2. Supervisory Enforcement Matter. Closed pursuant to Exemptions (6), (8), (9)(ii), and (10).

FOR FURTHER INFORMATION CONTACT: Gerard Poliquin, Secretary of the Board, Telephone: 703-518-6304.

Gerard Poliquin,
Secretary of the Board.

[FR Doc. 2018-22847 Filed 10-16-18; 4:15 pm]

BILLING CODE 7535-01-P